DEPARTMENT OF JUSTICE

Notice of Lodging of Consent Decree Pursuant to the Comprehensive Environmental Response Compensation and Liability Act (“CERCLA”)

Consistent with Departmental policy, 28 CFR 50.7, and under section 122(d) of CERCLA, 42 U.S.C. 9622(d), notice is hereby given that a proposed consent decree in United States v. Livingston, et al., Civ. No. 97-4770 (WGB), was lodged on February 13, 2001 with the United States District Court for the District of New Jersey. The Consent Decree concerns hazardous waste contamination at the Brook Industrial Park Superfund Site (the “Site”), located in Bound Brook, Somerset County, New Jersey. The Consent Decree would resolve the liability for reimbursement of response costs incurred and to be incurred by the United States in connection with the Site as to three remaining defendants in this action against whom the United States filed a compliant on behalf of the Untied States Environmental Protection Agency (“EPA”). Also participating in the proposed consent decree are third-party defendants Fireman's Fund Insurance Co. and New Jersey Property-Liability Insurance Guaranty Association. The Consent Decree requires the settling parties to reimburse the EPA Hazardous Substance Superfund a total of $1.06 million, plus interest.

The Department of Justice will receive, for a period of thirty (30) days from the date of this publication, comments relating to the proposed consent decree. Comments should be addressed to the Assistant Attorney General, Environment and Natural Resource Division, P.O. Box 7611, U.S. Department of Justice, Washington, DC 20044-7611, and should refer to United States v. Livingston, et al., DOJ Ref. #90-11-2-1287.

The proposed consent decree may be examined at the office of the United States Attorney for the District of New Jersey, 970 Broad Street, Newark, New Jersey 07102 (contact Assistant Untied States Attorney Susan C. Cassell); and the Region II Office of the Environmental Protection Agency, 290 Broadway, New York, New York, 10007-1866 (contact Assistant Regional Counsel Muthu S. Sundram). A copy of the proposed consent decree may be obtained by mail from the Consent Decree Library, P.O. Box 7611, Washington, DC 20044-7611. In requesting a copy please refer to the referenced case and enclose a check in the amount of $5.25 (25 cents per page reproduction costs), payable to the Consent Decree Library.

Ronald G. Gluck,
Assistant Chief, Environmental Enforcement Section, Environment and Natural Resources Division.

[FR Doc. 01-4700 Filed 2-26-01; 8:45 am]

BILLING CODE 4410-15-M